SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: June 1-30, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and (f) for the time period specified above:

Approvals By Rule Issued Under 18 CFR 806.22(e):

1. The Hershey Company, West Hershey Plant, ABR-201606003, Derry Township, Dauphin County, Pa.; Consumptive Use of Up to 0.499 mgd; Approval Date: June 17, 2016.

Approvals By Rule Issued Under 18 CFR 806.22(f):

1. Chesapeake Appalachia, LLC, Pad ID: Gestewitz, ABR-201111002.R1, North Towanda Township, Bradford County, Pa.; Consumptive Use of Up to 7.5000 mgd; Approval Date: June 2, 2016.

2. Chesapeake Appalachia, LLC, Pad ID: Coyle, ABR-201111009.R1, Albany Township, Bradford County, Pa.; Consumptive Use of Up to 7.5000 mgd; Approval Date: June 2, 2016.

3. Chesapeake Appalachia, LLC, Pad ID: Bartholomew, ABR-201111012.R1, Franklin Township, Bradford County, Pa.; Consumptive Use of Up to 7.5000 mgd; Approval Date: June 2, 2016.

4. Chesapeake Appalachia, LLC, Pad ID: Dulcey, ABR-201111020.R1, Wilmot Township, Bradford County, Pa.; Consumptive Use of Up to 7.5000 mgd; Approval Date: June 2, 2016.

5. Chesapeake Appalachia, LLC, Pad ID: Gregerson, ABR-201111025.R1, Auburn Township, Susquehanna County, Pa.; Consumptive Use of Up to 7.5000 mgd; Approval Date: June 2, 2016.

6. SWEPI LP, Pad ID: Weiner 882, ABR-201103045.R1, Farmington Township, Tioga County, Pa.; Consumptive Use of Up to 4.0000 mgd; Approval Date: June 2, 2016.

7. SWEPI LP, Pad ID: Swan 1122, ABR-201104031.R1, Farmington Township, Tioga County, Pa.; Consumptive Use of Up to 4.0000 mgd; Approval Date: June 2, 2016.

8. Anadarko E&P Onshore LLC, Pad ID: COP Tract 027B Pad A, ABR-201107030.R1, McHenry Township, Lycoming County, Pa.; Consumptive Use of Up to 4.0000 mgd; Approval Date: June 3, 2016.

9. Anadarko E&P Onshore LLC, Pad ID: COP Tract 356 Pad G, ABR-201108017.R1, Cummings Township, Lycoming County, Pa.; Consumptive Use of Up to 4.0000 mgd; Approval Date: June 3, 2016.

10. Chief Oil & Gas LLC, Pad ID: Bouse Drilling Pad #1, ABR-201110008.R1, Monroe Township, Bradford County, Pa.; Consumptive Use of Up to 2.0000 mgd; Approval Date: June 3, 2016.

11. Chief Oil & Gas LLC, Pad ID: Nelson Drilling Pad #1, ABR-201111031.R1, Forks Township, Sullivan County, Pa.; Consumptive Use of Up to 2.0000 mgd; Approval Date: June 3, 2016.

12. Seneca Resources Corporation, Pad ID: Gamble Pad R, ABR-201606001, Eldred Township, Lycoming County, Pa.; Consumptive Use of Up to 4.0000 mgd; Approval Date: June 3, 2016.

13. Seneca Resources Corporation, Pad ID: DCNR 100 Pad G, ABR-201108032.R1, McIntyre Township, Lycoming County, Pa.; Consumptive Use of Up to 4.0000 mgd; Approval Date: June 3, 2016.

14. Chief Oil & Gas LLC, Pad ID: Beirne Green Hills Farms A Drilling Pad #1, ABR-201111024.R1, Asylum and Monroe Townships, Bradford County, Pa.; Consumptive Use of Up to 2.0000 mgd; Approval Date: June 8, 2016.

15. EXCO Resources (PA), LLC, Pad ID: Cadwalader Pad, ABR-201103039.R1, Cogan House Township, Lycoming County, Pa.; Consumptive Use of Up to 8.0000 mgd; Approval Date: June 8, 2016.

16. Chesapeake Appalachia, LLC, Pad ID: Hess, ABR-201105004.R1, Rome Township, Bradford County, Pa.; Consumptive Use of Up to 7.5000 mgd; Approval Date: June 10, 2016.

17. Chief Oil & Gas LLC, Pad ID: Madigan Farms A Drilling Pad #1, ABR-201111016.R1, Burlington Township, Bradford County, Pa.; Consumptive Use of Up to 2.0000 mgd; Approval Date: June 10, 2016.

18. EOG Resources, Inc., Pad ID: HOLCOMBE 1H Pad, ABR-201107022.R1, Smithfield Township, Bradford County, Pa.; Consumptive Use of Up to 4.9990 mgd; Approval Date: June 10, 2016.

19. EOG Resources, Inc., Pad ID: STAHL 1H Pad, ABR-201107021.R1, Smithfield Township, Bradford County, Pa.; Consumptive Use of Up to 4.9990 mgd; Approval Date: June 10, 2016.

20. Chesapeake Appalachia, LLC, Pad ID: LW, ABR-201111027.R1, Cherry Township, Sullivan County, Pa.; Consumptive Use of Up to 7.5000 mgd; Approval Date: June 13, 2016.

21. Endless Mountain Energy Partners, LLC, Pad ID: Sturgis-B, ABR-201105019.R1, Gallagher Township, Clinton County, Pa.; Consumptive Use of Up to 6.0000 mgd; Approval Date: June 13, 2016.

22. Energy Corporation of America, Pad ID: Coldstream Affiliates B, ABR-201110019.R1, Goshen Township, Clearfield County, Pa.; Consumptive Use of Up to 5.0000 mgd; Approval Date: June 13, 2016.

23. SWEPI LP, Pad ID: Showalter 822, ABR-201105018.R1, Chatham Township, Tioga County, Pa.; Consumptive Use of Up to 4.0000 mgd; Approval Date: June 13, 2016.

24. Range Resources—Appalachia, LLC, Pad ID: Mohawk South Unit Well Pad, ABR-201606002, Gallagher Township, Clinton County, Pa.; Consumptive Use of Up to 1.0000 mgd; Approval Date: June 14, 2016.

25. Chesapeake Appalachia, LLC, Pad ID: Robbins, ABR-201111018.R1, Ulster Township, Bradford County, Pa.; Consumptive Use of Up to 7.5000 mgd; Approval Date: June 21, 2016.

26. Chief Oil & Gas LLC, Pad ID: Squier B Drilling Pad #1, ABR-201110007.R1, Springville Township, Susquehanna County, Pa.; Consumptive Use of Up to 2.0000 mgd; Approval Date: June 21, 2016.

27. Talisman Energy USA Inc., Pad ID: 07 185 Camp Comfort, ABR-201106025.R1, Middletown Township, Susquehanna County, Pa.; Consumptive Use of Up to 6.0000 mgd; Approval Date: June 21, 2016.

28. SWN Production Company, LLC, Pad ID: Zeffer Pad, ABR-201108029.R1, New Milford Township, Susquehanna County, Pa.; Consumptive Use of Up to 4.9900 mgd; Approval Date: June 23, 2016.

29. SWN Production Company, LLC, Pad ID: Scott Pad, ABR-201108030.R1, New Milford Township, Susquehanna County, Pa.; Consumptive Use of Up to 4.9900 mgd; Approval Date: June 23, 2016.

30. Clean Energy E&P, LLC, Pad ID: Whispering Pines Pad 1, ABR-201606004, Delmar Township, Tioga County, Pa.; Consumptive Use of Up to 2.0000 mgd; Approval Date: June 24, 2016.

31. Seneca Resources Corporation, Pad ID: DCNR 595 Pad L, ABR-201108033.R1, Bloss Township, Tioga County, Pa.; Consumptive Use of Up to 4.0000 mgd; Approval Date: June 24, 2016.

32. SWEPI LP, Pad ID: Sanchis 1129, ABR-201105017.R1, Farmington Township, Tioga County, Pa.; Consumptive Use of Up to 4.0000 mgd; Approval Date: June 24, 2016.

33. SWEPI LP, Pad ID: Drake 274, ABR-201106003.R1, Lawrence Township, Tioga County, Pa.; Consumptive Use of Up to 4.0000 mgd; Approval Date: June 24, 2016.

34. SWEPI LP, Pad ID: Fuller 826, ABR-201606005, Middlebury Township, Tioga County, Pa.; Consumptive Use of Up to 4.0000 mgd; Approval Date: June 24, 2016.

35. Talisman Energy USA Inc., Pad ID: 02 011 DCNR 587, ABR-201106029.R1, Ward Township, Tioga County, Pa.; Consumptive Use of Up to 6.0000 mgd; Approval Date: June 24, 2016.

36. Talisman Energy USA Inc., Pad ID: 03-086 Everts P, ABR-201606006, Columbia Township, Bradford County, Pa.; Consumptive Use of Up to 6.0000 mgd; Approval Date: June 24, 2016.

37. Chesapeake Appalachia, LLC, Pad ID: Lines, ABR-201111017.R1, Monroe Township, Bradford County, Pa.; Consumptive Use of Up to 7.5000 mgd; Approval Date: June 28, 2016.

38. Chesapeake Appalachia, LLC, Pad ID: Knapp, ABR-201111003.R1, Burlington and Ulster Townships, Bradford County, Pa.; Consumptive Use of Up to 7.5000 mgd; Approval Date: June 28, 2016.

Authority: Pub. L. 91-575, 84 Stat. 1509 et seq., 18 CFR parts 806, 807, and 808.

Dated: July 28, 2016.
Stephanie L. Richardson,
Secretary to the Commission.

[FR Doc. 2016-18267 Filed 8-1-16; 8:45 am]

BILLING CODE 7040-01-P